DEPARTMENT OF THE TREASURY

Bureau of Alcohol, Tobacco and Firearms

27 CFR Parts 4, 5, 7, 17, 19, 20, 22, 24, 25, 26, 70, 250, and 251

[T.D. ATF-459]

RIN 1512-AC40

Liquors and Articles From Puerto RIco and the Virgin Islands; Recodification of Regulations (2001R-56P)

AGENCY: Bureau of Alcohol, Tobacco and Firearms (ATF), Department of the Treasury.

ACTION: Final Rule (Treasury decision).

SUMMARY: The Bureau of Alcohol, Tobacco and Firearms (ATF) is recodifying the regulations pertaining to liquors and articles from Puerto Rico and the Virgin Islands. The purpose of this recodification is to reissue the regulations in part 250 of title 27 of the Code of Federal Regulations (27 CFR part 250) as 27 CFR part 26. This change improves the organization of title 27.

DATES: This rule is effective on July 25, 2001.

FOR FURTHER INFORMATION CONTACT: Lisa M. Gesser, Regulations Division, Bureau of Alcohol, Tobacco and Firearms, 650 Massachusetts Avenue NW, Washington, DC 20226, (202-927-9347) or e-mail at LMGesser@atfhq.atf.treas.gov.

SUPPLEMENTARY INFORMATION:

Background

As a part of continuing efforts to reorganize the part numbering system of title 27 CFR, ATF is removing part 250, in its entirety, and is recodifying the regulations as 27 CFR part 26. This change improves the organization of title 27 CFR.

In addition to the recodification, ATF is making two technical amendments to title 27 CFR, chapter I. Specifically, we are designating Subchapter B as Tobacco and in part 251 we are revising the reference to part 240 to read part 24.

Derivation Table for Part 26
The requirements of sec. | Are derived from sec.
Subpart A
26.1 | 250.1
26.2 | 250.2
26.3 | 250.3
Subpart B
26.11 | 250.11
Subpart C—[Reserved]
Subpart Ca
26.30 | 250.30
26.31 | 250.31
Subpart Cb
26.35 | 250.35
26.36 | 250.36
26.36a | 250.36a
26.36b | 250.36b
26.36c | 250.36c
26.37 | 250.37
26.38 | 250.38
26.39 | 250.39
26.40 | 250.40
26.41 | 250.41
26.43 | 250.43
26.44 | 250.44
26.45 | 250.45
26.46 | 250.46
26.47 | 250.47
Subpart D
26.50 | 250.50
26.50a | 250.50a
26.51 | 250.51
26.52 | 250.52
26.53 | 250.53
26.54 | 250.54
26.55 | 250.55
Subpart E
26.61 | 250.61
26.62 | 250.62
26.62a | 250.62a
26.62b | 250.62b
26.63 | 250.63
26.64 | 250.64
26.65 | 250.65
26.66 | 250.66
26.67 | 250.67
26.68 | 250.68
26.68a | 250.68a
26.69 | 250.69
26.70 | 250.70
26.70a | 250.70a
26.71 | 250.71
26.72 | 250.72
26.73 | 250.73
26.74 | 250.74
26.75 | 250.75
26.76 | 250.76
26.77 | 250.77
26.78 | 250.78
26.79 | 250.79
26.79a | 250.79a
26.80 | 250.80
26.81 | 250.81
26.82 | 250.82
26.86 | 250.86
26.87 | 250.87
26.92 | 250.92
26.93 | 250.93
26.94 | 250.94
26.95 | 250.95
26.96 | 250.96
26.96a | 250.96a
26.96b | 250.96b
26.97 | 250.97
26.101 | 250.101
26.102 | 250.102
26.103 | 250.103
26.104 | 250.104
26.105 | 250.105
26.105a | 250.105a
26.106 | 250.106
26.107 | 250.107
26.108 | 250.108
26.109 | 250.109
26.110 | 250.110
26.111 | 250.111
26.112 | 250.112
26.112a | 250.112a
26.113 | 250.113
26.114 | 250.114
26.115 | 250.115
26.116 | 250.116
26.117 | 250.117
26.118 | 250.118
26.119 | 250.119
Subpart F
26.125 | 250.125
26.126 | 250.126
26.128 | 250.128
Subpart G
26.135 | 250.135
26.136 | 250.136
Subpart H
26.163 | 250.163
26.164 | 250.164
26.164a | 250.164a
26.165 | 250.165
Subpart I
26.170 | 250.170
26.171 | 250.171
26.172 | 250.172
26.173 | 250.173
26.174 | 250.174
Subpart Ia
26.191 | 250.191
26.192 | 250.192
26.193 | 250.193
26.194 | 250.194
Subpart Ib
26.196 | 250.196
26.197 | 250.197
26.198 | 250.198
26.199 | 250.199
26.199a | 250.199a
26.199b | 250.199b
26.199c | 250.199c
26.199d | 250.199d
26.199e | 250.199e
26.199f | 250.199f
Subpart J
26.200 | 250.200
26.201 | 250.201
26.201a | 250.201a
26.201b | 250.201b
26.201c | 250.201c
26.202 | 250.202
26.203 | 250.203
26.203a | 250.203a
26.204 | 250.204
26.204a | 250.204a
26.205 | 250.205
26.206 | 250.206
26.207 | 250.207
26.209 | 250.209
26.210 | 250.210
26.211 | 250.211
Subpart K
26.220 | 250.220
26.221 | 250.221
26.222 | 250.222
26.223 | 250.223
26.224 | 250.224
26.225 | 250.225
Subpart L
26.230 | 250.230
26.231 | 250.231
Subpart M
26.260 | 250.260
26.261 | 250.261
26.262 | 250.262
26.262a | 250.262a
26.263 | 250.263
26.264 | 250.264
26.265 | 250.265
26.266 | 250.266
26.267 | 250.267
Subpart N
26.272 | 250.272
26.273 | 250.273
26.273a | 250.273a
26.273b | 250.273b
26.275 | 250.275
26.276 | 250.276
26.277 | 250.277
Subpart O
26.291 | 250.291
26.292 | 250.292
26.293 | 250.293
26.294 | 250.294
26.295 | 250.295
26.296 | 250.296
26.297 | 250.297
Subpart Oa
26.300 | 250.300
26.301 | 250.301
26.302 | 250.302
26.303 | 250.303
26.304 | 250.304
26.305 | 250.305
Subpart Ob
26.306 | 250.306
26.307 | 250.307
26.308 | 250.308
26.309 | 250.309
26.310 | 250.310
Subpart P
26.311 | 250.311
26.312 | 250.312
26.314 | 250.314
26.315 | 250.315
26.316 | 250.316
26.317 | 250.317
26.318 | 250.318
26.319 | 250.319
Subpart Q
26.331 | 250.331

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule under the Administrative Procedure Act (5 U.S.C. 553), the provisions of the Regulatory Flexibility Act (5 U.S.C. 601 et seq.) do not apply. We sent a copy of this final rule to the Chief Counsel for Advocacy of the Small Business Administration in accordance with 26 U.S.C. 7805(f). No comments were received.

Executive Order 12866

This final rule is not a significant regulatory action as defined in Executive Order 12866. Accordingly, this final rule is not subject to the analysis required by this Executive Order.

Administrative Procedure Act

Because this final rule merely makes technical amendments and conforming changes to improve the clarity of the regulations, it is unnecessary to issue this final rule with notice and public procedure under 5 U.S.C. 553(b). Similarly, because of the nature of this final rule, good cause is found that it is unnecessary to subject this final rule to the effective date limitation of 5 U.S.C. 553(d).

Drafting Information

The principal author of this document is Lisa M. Gesser, Regulations Division, Bureau of Alcohol, Tobacco and Firearms.

List of Subjects

27 CFR Part 4

Advertising, Customs duties and inspection, Imports, Labeling, Packaging and containers, Reporting and recordkeeping requirements, Trade practices, Wine.

27 CFR Part 5

Advertising, Customs duties and inspection, Imports, Labeling, Liquors, Packaging and containers, Reporting and recordkeeping requirements, Trade practices.

27 CFR Part 7

Advertising, Beer, Customs duties and inspection, Imports, Labeling, Reporting and recordkeeping requirements, Trade practices.

27 CFR Part 17

Administrative practice and procedure, Claims, Cosmetics, Customs duties and inspection, Drugs, Excise taxes, Exports, Imports, Liquors, Packaging and containers, Puerto Rico, Reporting and recordkeeping requirements, Spices and flavorings, Surety bonds, Virgin Islands.

27 CFR Part 19

Caribbean Basin initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 20

Alcohol and alcoholic beverages, Claims, Cosmetics, Excise taxes, Labeling, Packaging and containers, Penalties, Reporting and recordkeeping requirements, Surety bonds.

27 CFR Part 22

Administrative practice and procedure, Alcohol and alcoholic beverages, Excise taxes, Reporting and recordkeeping requirements, Surety bonds.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 25

Beer, Claims, Electronic funds transfers, Excise taxes, Exports, Labeling, Packaging and containers, Reporting and recordkeeping requirements, Research, Surety bonds.

27 CFR Part 26

Alcohol and alcoholic beverages, Caribbean Basin initiative, Claims, Customs duties and inspection, Electronic funds transfers, Excise taxes, Packaging and containers, Puerto Rico, Reporting and recordkeeping requirements, Surety bonds, Virgin Islands, Warehouses.

27 CFR Part 70

Administrative practice and procedure, Claims, Excise taxes, Freedom of information, Law enforcement, Penalties, Reporting and recordkeeping requirements, Surety bonds.

27 CFR Part 250

Alcohol and alcoholic beverages, Caribbean Basin initiative, Claims, Customs duties and inspection, Electronic funds transfers, Excise taxes, Packaging and containers, Puerto Rico, Reporting and recordkeeping requirements, Surety bonds, Virgin Islands, Warehouses.

27 CFR Part 251

Alcohol and alcoholic beverages, Beer, Cosmetics, Customs duties and inspection, Electronic funds transfers, Excise taxes, Imports, Labeling, Liquors, Packaging and containers, Reporting and recordkeeping requirements, Wine.

Authority and Issuance

ATF is amending title 27 of the Code of Federal Regulations, chapter I, as follows:

PART 4—LABELING AND ADVERTISING OF WINE

Par. 1. The authority citation for 27 CFR part 4 continues to read as follows:

Authority: 27 U.S.C. 205, unless otherwise noted.

Par. 2. Under the heading “Cross References,” remove the reference to “27 CFR Part 250-Liquors and Articles from Puerto Rico and the Virgin Islands” and add, in part number order, a reference to “27 CFR Part 26-Liquors and Articles from Puerto Rico and the Virgin Islands.”

PART 5—LABELING AND ADVERTISING OF DISTILLED SPIRITS

Par. 3. The authority citation for 27 CFR part 5 continues to read as follows:

Authority: 26 U.S.C. 5301, 7805; 27 U.S.C. 205.

§ 5.2 [Amended]

Par. 4. Amend § 5.2 by removing the reference to “27 CFR Part 250-Liquors and Articles from Puerto Rico and the Virgin Islands” and adding, in part number order, a reference to “27 CFR Part 26-Liquors and Articles from Puerto Rico and the Virgin Islands.”

PART 7—LABELING AND ADVERTISING OF MALT BEVERAGES

Par. 5. The authority citation for 27 CFR part 7 continues to read as follows:

Authority: 27 U.S.C. 205.

§ 7.4 [Amended]

Par. 6. Amend § 7.4 by removing the reference to “27 CFR Part 250-Liquors and Articles from Puerto Rico and the Virgin Islands” and adding, in part number order, a reference to “27 CFR Part 26-Liquors and Articles from Puerto Rico and the Virgin Islands.”

PART 17—DRAWBACK ON TAXPAID DISTILLED SPIRITS USED IN MANUFACTURING NONBEVERAGE PRODUCTS

Par. 7. The authority citation for 27 CFR part 17 continues to read as follows:

Authority: 26 U.S.C. 5010, 5131-5134, 5143, 5146, 5206, 5273, 6011, 6065, 6091, 6109, 6151, 6402, 6511, 7011, 7213, 7652, 7805; 31 U.S.C. 9301, 9303, 9304, 9306.

§ 17.5 [Amended]

Par. 8. Amend § 17.5 by removing the reference to “part 250” and adding, in its place, a reference to “part 26.”

PART 19—DISTILLED SPIRITS PLANTS

Par. 9. The authority citation for 27 CFR part 19 continues to read as follows:

Authority: 19 U.S.C. 81c 1131; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3 [Amended]

Par. 10. Amend § 19.3 by removing the reference to “27 CFR Part 250-Liquors and Articles from Puerto Rico and the Virgin Islands” and adding, in part number order, a reference to “27 CFR Part 26-Liquors and Articles from Puerto Rico and the Virgin Islands.”

§ 19.485 [Amended]

Par. 11. Amend § 19.485 as follows:

a. In paragraph (a)(1), remove the reference to “27 CFR 250.40” and add, in its place, a reference to “27 CFR 26.40”; and

b. In paragraph (a)(2), remove the reference to “27 CFR 250.206” and add, in its place, a reference to “27 CFR 26.206.”

§ 19.524 [Amended]

Par. 12. Amend paragraphs (a)(1), (b)(1) and (b)(3) of § 19.524 by removing the reference to “parts 250 and 251” and adding, in its place, a reference to “parts 26 and 251.”

PART 20—DISTRIBUTION AND USE OF DENATURED ALCOHOL AND RUM

Par. 13. The authority citation for 27 CFR part 20 continues to read as follows:

Authority: 26 U.S.C. 5001, 5206, 5214, 5271-5275, 5552, 5555, 5607, 6065, 7805.

§ 20.3 [Amended]

Par. 14. Amend § 20.3 by removing the reference to “27 CFR Part 250-Liquors and Articles from Puerto Rico and the Virgin Islands” and adding, in part number order, a reference to “27 CFR Part 26-Liquors and Articles from Puerto Rico and the Virgin Islands.”

PART 22—DISTRIBUTION AND USE OF TAX-FREE ALCOHOL

Par. 15. The authority citation for 27 CFR part 22 continues to read as follows:

Authority: 26 U.S.C. 5001, 5121, 5142, 5143, 5146, 5206, 5271-5276, 5311, 5552, 5555, 6056, 6061, 6065, 6109, 6151, 6806, 7011, 7805; 31 U.S.C. 9304, 9306.

§ 22.3 [Amended]

Par. 16. Amend § 22.3 by removing the reference to “27 CFR Part 250-Liquors and Articles from Puerto Rico and the Virgin Islands” and adding, in part number order, a reference to “27 CFR Part 26-Liquors and Articles from Puerto Rico and the Virgin Islands.”

PART 24—WINE

Par. 17. The authority citation for 27 CFR part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

§ 24.4 [Amended]

Par. 18. Amend § 24.4 by removing the reference to “27 CFR Part 250-Liquors and Articles from Puerto Rico and the Virgin Islands” and adding, in part number order, a reference to “27 CFR Part 26-Liquors and Articles from Puerto Rico and the Virgin Islands.”

§ 24.272 [Amended]

Par. 19. Amend paragraphs (a)(1), (b)(1) and (b)(3) of § 24.272 by removing the reference to “parts 250 and 251” and adding, in its place, a reference to “parts 26 and 251.”

PART 25—BEER

Par. 20. The authority citation for 27 CFR part 25 continues to read as follows:

Authority: 19 U.S.C. 81c; 26 U.S.C. 5002, 5051-5054, 5056, 5061, 5091, 5111, 5113, 5142, 5143, 5146, 5222, 5401-5403, 5411-5417, 5551, 5552, 5555, 5556, 5671, 5673, 5684, 6011, 6061, 6065, 6091, 6109, 6151, 6301, 6302, 6311, 6313, 6402, 6651, 6656, 6676, 6806, 7011, 7342, 7606, 7805; 31 U.S.C. 9301, 9303-9308.

§ 25.165 [Amended]

Par. 21. Amend paragraph (a)(1), (b)(1) and (b)(3) of § 25.165 by removing the reference to “Parts 250 and 251” and adding, in its place, a reference to “parts 26 and 251.”

Par. 21a. Add the following heading to Subchapter B:

Subchapter B—Tobacco

* * * * *

PART 70—PROCEDURE AND ADMINISTRATION

Par. 22. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§§ 70.411 and 70.461 [Amended]

Par. 23. Remove the reference to “part 250” and add, in its place, a reference to “part 26” in the following places:

a. Section 70.411(c)(26); and

b. Section 70.461.

PART 251—IMPORTATION OF DISTILLED SPIRITS, WINES, AND BEER

Par. 24. The authority citation for 27 CFR part 251 continues to read as follows:

Authority: 5 U.S.C. 552(a), 19 U.S.C. 81c, 1202; 26 U.S.C. 5001, 5007, 5008, 5010, 5041, 5051, 5054, 5061, 5111, 5112, 5114, 5121, 5122, 5124, 5201, 5205, 5207, 5232, 5273, 5301, 5313, 5555, 6302, 7805.

Par. 25. Under the heading “Cross Reference,” remove the reference to “part 250” and add, in its place, a reference to “part 26.”

§ 251.1 [Amended]

Par. 26. Revise the “Note” in § 251.1 to read as follows:

§ 251.1 Imported distilled spirits, wines, and beer.

* * * * *

Note: Distilled spirits, wines, and beer arriving in the United States from Puerto Rico and the Virgin Islands are governed by the provisions of part 26 of this chapter.

* * * * *

§ 251.48a [Amended]

Par. 27. Amend paragraph (a) of § 251.48a as follows:

a. Remove the reference to “parts 19 and 250” and add, in its place, a reference to “parts 19 and 26”;

b. Remove the reference to “parts 240 and 250” and add, in its place, a reference to “parts 24 and 26”; and

c. Remove the reference to “parts 25 and 250” and add, in its place, a reference to “parts 25 and 26.”

PART 250—LIQUORS AND ARTICLES FROM PUERTO RICO AND THE VIRGIN ISLANDS

Par. 28. The authority citation for 27 CFR part 250 continues to read as follows:

Authority: 19 U.S.C. 81c; 26 U.S.C. 5001, 5007, 5008, 5010, 5041, 5051, 5061, 5081, 5111, 5112, 5114, 5121, 5122, 5124, 5131-5134, 5141, 5146, 5207, 5232, 5271, 5276, 5301, 5314, 5555, 6001, 6301, 6302, 6804, 7101, 7102, 7651, 7652, 7805; 27 U.S.C. 203, 205; 31 U.S.C. 9301, 9303, 9304, 9306.

PART 250—[REDESIGNATED AS PART 26]

Par. 29. Redesignate 27 CFR part 250 as 27 CFR part 26.

PART 26—LIQUORS AND ARTICLES FROM PUERTO RICO AND THE VIRGIN ISLANDS

Par. 30. The authority citation for the newly redesignated part 26 of title 27 CFR, subchapter A, continues to read as follows:

Authority: 19 U.S.C. 81c; 26 U.S.C. 5001, 5007, 5008, 5010, 5041, 5051, 5061, 5081, 5111, 5112, 5114, 5121, 5122, 5124, 5131-5134, 5141, 5146, 5207, 5232, 5271, 5276, 5301, 5314, 5555, 6001, 6301, 6302, 6804, 7101, 7102, 7651, 7652, 7805; 27 U.S.C. 203, 205; 31 U.S.C. 9301, 9303, 9304, 9306.

§ 26.3 [Amended]

Par. 30a. Amend § 26.3 as follows:

a. Remove the reference to “part 250,” each place it appears, and add, in its place, a reference to “part 26”; and

b. Remove the reference to “ATF Order 1130.23,” each place it appears, and add, in its place, a reference to “ATF Order 1130.29.”

§ 26.11 [Amended]

Par. 31. Amend § 26.11 as follows:

a. In the definition of “Appropriate ATF Officer,” remove the reference to “ATF Order 1130.23, Delegation Order—Delegation of the Director's Authorities in 27 CFR Part 250,” and add, in its place, a reference to “ATF Order 1130.29, Delegation Order—Delegation of the Director's Authorities in 27 CFR Part 26”; and

b. In the definition of “Virgin Islands regulations,” remove the reference to “§ 250.201a” and add, in its place, a reference to “§ 26.201a.”

§ 26.30 [Amended]

Par. 32. Amend § 26.30 by removing the reference to “§ 250.31” and adding, in its place, a reference to “§ 26.31.”

§§ 26.35, 26.47 and 26.107 [Amended]

Par. 33. Remove the reference to “§ 250.36,” each place it appears, and add, in its place, a reference to “§ 26.36,” in the following places:

a. Section 26.35(a);

b. Section 26.47; and

c. Section 26.107.

§ 26.45 [Amended]

Par. 34. Amend § 26.45 by removing the reference to “§ 250.44” and adding, in its place, a reference to “§ 26.44.”

§ 26.50 [Amended]

Par. 35. Amend § 26.50 as follows:

a. In paragraph (a), remove the reference to “§ 250.36” and add, in its place, a reference to “§ 26.36”; and

b. In paragraphs (a) and (b), remove the reference to “§ 250.54” and add, in its place, a reference to “§ 26.54.”

§ 26.51 [Amended]

Par. 36. Amend paragraph (c) of § 26.51 by removing the reference to “§ 250.54” and adding, in its place, a reference to “§ 26.54.”

§ 26.55 [Amended]

Par. 37. Amend § 26.55 by removing the reference to “§ 250.52” and adding, in its place, a reference to “§ 26.52.”

§ 26.68a [Amended]

Par. 38. Amend § 26.68a as follows:

a. Remove the reference to “§§ 250.66(a), 250.67, or § 250.68” and add, in its place, a reference to “§§ 26.66(a), 26.67, or 26.68”; and

b. Remove the reference to “§ 250.66(b)” and add, in its place, a reference to “§ 26.66(b).”

§§ 26.70, 26.71 and 26.73 [Amended]

Par. 39. Remove the reference to “§ 250.72” and add, in its place, a reference to “§ 26.72,” in the following places:

a. Section 26.70;

b. Section 26.71(a); and c. Section 26.73.

§ 26.72 [Amended]

Par. 40. Amend § 26.72 by removing the reference to “§ 250.73” and adding, in its place, a reference to “§ 26.73.”

§ 26.74 [Amended]

Par. 41. Amend § 26.74 by removing the reference to “§ 250.63” and adding, in its place, a reference to “§ 26.63.”

§ 26.77 [Amended]

Par. 42. Amend paragraph (c) of § 26.77 by removing the reference to “§ 250.79a” and adding, in its place, a reference to “§ 26.79a.”

§§ 26.79, 26.80, 26.81, 26.199a and 26.199b [Amended]

Par. 43. Remove the reference to “§ 250.164a” and add, in its place, a reference to “§ 26.164a,” in the following places:

a. Section 26.79(a);

b. Section 26.80(a);

c. Section 26.81(a);

d. Section 26.199a(a); and

e. Section 26.199b.

§ 26.82 [Amended]

Par. 44. Amend § 26.82 by removing the reference to “§§ 250.114 through 250.116” and adding, in its place, a reference to “§§ 26.114 through 26.116.”

§ 26.87 [Amended]

Par. 45. Amend § 26.87 as follows:

a. Remove the reference to “§ 250.86” and add, in its place, a reference to “§ 26.86”;

b. Remove the reference to “§ 250.81” and add, in its place, a reference to “§ 26.81”;

c. Remove the reference to “§ 250.80” and add, in its place, a reference to “§ 26.80”;

d. Remove the reference to “§ 250.78” and add, in its place, a reference to “§ 26.78”; an

e. Remove the reference to “§§ 250.114 through 250.116” and add, in its place, a reference to “§§ 26.114 through 26.116.”

§§ 26.95 and 26.104 [Amended]

Par. 46. Remove the reference to “§ 250.80(b)” and add, in its place, a reference to “§ 26.80(b),” in the following places:

a. Section 26.95(b); and

b. Section 26.104(b).

§ 26.96b [Amended]

Par. 47. Amend § 26.96b as follows:

a. Remove the reference to “§ 250.95 or § 250.96” and add, in its place, a reference to “§ 26.95 or § 26.96”; and

b. Remove the reference to “§§ 250.114 through 250.116” and add, in its place, a reference to “§§ 26.114 through 26.116.”

§ 26.105a [Amended]

Par. 48. Amend § 26.105a as follows:

a. Remove the reference to “§ 250.104 or § 250.105” and add, in its place, a reference to “§ 26.104 or § 26.105”; and

b. Remove the reference to “§§ 250.114 through 250.116” and add, in its place, a reference to “§§ 26.114 through 26.116.”

§ 26.108 [Amended]

Par. 49. Amend § 26.108 as follows:

a. In paragraph (a), remove the reference to “§ 250.78” and add, in its place, a reference to “§ 26.78”;

b. In paragraph (b), remove the reference to “§§ 250.93 and/or 250.102” and add, in its place, a reference to “§§ 26.93 and/or 26.102”; and

c. In paragraph (c), remove the reference to “§§ 250.78, 250.93, and/or § 250.102” and add, in its place, a reference to “§§ 26.78, 26.93, and/or § 26.102.”

§ 26.109 [Amended]

Par. 50. Amend § 26.109 as follows:

a. In paragraph (a), remove the reference to “§ 250.79” and add, in its place, a reference to “§ 26.79”;

b. In paragraph (a), remove the reference to “§§ 250.80, 250.81 and 250.111 through 250.113” and add, in its place, a reference to “§§ 26.80, 26.81, and 26.111 through 26.113”;

c. In paragraph (b), remove the reference to “§ 250.94” and add, in its place, a reference to “§ 26.94”;

d. In paragraph (b), remove the reference to “§§ 250.95, 250.96, and 250.111 through 250.113” and add, in its place, a reference to “§§ 26.95, 26.96 and 26.111 through 26.113”;

e. In paragraph (c), remove the reference to “§ 250.103” and add, in its place, a reference to “§ 26.103”; and

f. In paragraph (c), remove the reference to “§§ 250.104, 250.105, and 250.111 through 250.113” and add, in its place, a reference to “§§ 26.104, 26.105 and 26.111 through 26.113.”

§ 26.110 [Amended]

Par. 51. Amend § 26.110 as follows:

a. Remove the reference to “§ 250.164a” and add, in its place, a reference to “§ 26.164a”; and

b. Remove the reference to “§§ 250.114 through 250.116” and add, in its place, a reference to “§§ 26.114 through 26.116.”

§ 26.112 [Amended]

Par. 52. Amend § 26.112 as follows:

a. In paragraph (a), remove the reference to “§§ 250.80, 250.95 or 250.104” and add, in its place, a reference to “§§ 26.80, 26.95 or 26.104”;

b. In paragraphs (c)(2) and (d)(2), remove the reference to “§ 250.112a” and add, in its place, a reference to “§ 26.112a”; and

c. In paragraph (e), remove the reference to “§ 250.113” and add, in its place, a reference to “§ 26.113.”

§ 26.112a [Amended]

Par. 53. Amend § 26.112a as follows:

a. In paragraphs (a)(1), (b)(2), and (b)(3), remove the reference to “§ 250.112” and add, in its place, a reference to “§ 26.112”; and

b. In paragraph (b)(2), remove the reference to “§ 250.113” and add, in its place, a reference to “§ 26.113.”

§ 26.113 [Amended]

Par. 54. Amend § 26.113 as follows:

a. In paragraph (c), remove the reference to “§ 250.81” and add, in its place, a reference to “§ 26.81”;

b. In paragraph (d), remove the reference to “§ 250.96” and add, in its place, a reference to “§ 26.96”;

c. In paragraph (e), remove the reference to “§ 250.105” and add, in its place, a reference to “§ 26.105”; and

d. In paragraph (f), remove the reference to “§ 250.112(c)” and add, in its place, a reference to “§ 26.112(c).”

§ 26.114 [Amended]

Par. 55. Amend § 26.114 by removing the reference to “§§ 250.115 and 250.116” and adding, in its place, a reference to “§§ 26.115 and 26.116.”

§ 26.115 [Amended]

Par. 56. Amend § 26.115 by removing the reference to “§ 250.116” and adding, in its place, a reference to “§ 26.116.”

§ 26.163 [Amended]

Par. 57. Amend § 26.163 by removing the reference to “§ 250.164” and adding, in its place, a reference to “§ 26.164.”

§ 26.165 [Amended]

Par. 58. Amend § 26.165 as follows:

a. In paragraph (a)(2), remove the reference to “§ 250.79a” and add, in its place, a reference to “§ 26.79a”; and

b. In paragraph (a)(3), remove the reference to “§ 250.50a” and add, in its place, a reference to “§ 26.50a.”

§ 26.173 [Amended]

Par. 59. Amend paragraph (b)(4) of § 26.173 by removing the reference to “§ 250.51” and adding, in its place, a reference to “§ 26.51.”

§ 26.193 [Amended]

Par. 60. Amend § 26.193 as follows:

a. In paragraph (a), remove the reference to “§§ 250.107 through 250.110” and add, in its place, a reference to “§§ 26.107 through 26.110”; and

b. In paragraph (b), remove the reference to “§ 250.113” and add, in its place, a reference to “§ 26.113.”

§ 26.194 [Amended]

Par. 61. Amend § 26.194 as follows:

a. In paragraph (a), remove the reference to “§ 250.193(b)” and add, in its place, a reference to “§ 26.193(b)”; and

b. In paragraph (b), remove the reference to “§ 250.113” and add, in its place, a reference to “§ 26.113.”

§ 26.196 [Amended]

Par. 62. Amend § 26.196 by removing the reference to “§ 250.86” and adding, in its place, a reference to “§ 26.86.”

§ 26.200 [Amended]

Par. 63. Amend paragraph (a) of § 26.200 by removing the reference to “§ 250.201,” each place it appears, and adding, in its place, a reference to “§ 26.201.”

§§ 26.204, 26.260, 26.263, 26.264 and 26.265 [Amended]

Par. 64. Remove the reference to “§ 250.205” and add, in its place, a reference to “§ 26.205,” in the following places:

a. Section 26.204;

b. Section 26.260;

c. Section 26.263;

d. Section 26.264; and

e. Section 26.265.

§ 26.205 [Amended]

Par. 65. Amend § 26.205 as follows:

a. In the introductory text of paragraph (a)(8), remove the reference to “§ 250.262a” and add, in its place, a reference to “§ 26.262a”;

b. In paragraph (a)(8)(iv), remove the reference to “§ 250.204a” and add, in its place, a reference to “§ 26.204a”; and

c. In paragraph (b), remove the reference to “§§ 250.260 and 250.302” and add, in its place, a reference to “§§ 26.260 and 26.302.”

§ 26.211 [Amended]

Par. 66. Amend § 26.211 by removing the reference to “§ 250.210” and adding, in its place, a reference to “§ 26.210.”

§§ 26.220 and 26.221 [Amended]

Par. 67. Remove the reference to “§ 250.224” and add, in its place, a reference to “§ 26.224,” in the following places:

a. Section 26.220(a) and

(b); and b. Section 26.221(c).

§ 26.225 [Amended]

Par. 68. Amend § 26.225 by removing the reference to “§ 250.222” and adding, in its place, a reference to “§ 26.222.”

§ 26.261 [Amended]

Par. 69. Amend § 26.261 as follows:

a. Remove the reference to “§ 250.205” and add, in its place, a reference to “§ 26.205”; and

b. Remove the reference to “§§ 250.262 through 250.265” and add, in its place, a reference to “§§ 26.262 through 26.265.”

§ 26.262 [Amended]

Par. 70. Amend § 26.262 as follows:

a. In paragraph (a), remove the reference to “§ 250.205” and add, in its place, a reference to “§ 26.205”; and

b. In paragraph (c), remove the reference to “§ 250.262a” and add, in its place, a reference to “§ 26.262a.”

§ 26.272 [Amended]

Par. 71. Amend § 26.272 by removing the reference to “§ 250.273” and adding, in its place, a reference to “§ 26.273.”

§ 26.273a [Amended]

Par. 72. Amend the introductory text of § 26.273a by removing the reference to “250.301” and adding, in its place, a reference to “26.301.”

§ 26.291 [Amended]

Par. 73. Amend § 26.291 as follows:

a. In paragraph (a), remove the reference to “§ 250.292 through 250.294” and add, in its place, a reference to “§§ 26.292 through 26.294”;

b. In paragraph (b)(1), remove the reference to “§§ 250.292 through 250.294” and add, in its place, a reference to “§§ 26.292 through 26.294”;

c. In paragraphs (b)(2) and (c), remove the reference to “§§ 250.295 through 250.296” and add, in its place, a reference to “§§ 26.295 through 26.296”; and

d. In paragraph (c), remove the reference to “§ 250.221” and add, in its place, a reference to “§ 26.221.”

§ 26.301 [Amended]

Par. 74. Amend § 26.301 by removing the reference to “§ 250.273a” and adding, in its place, a reference to “§ 26.273a.”

§ 26.302 [Amended]

Par. 75. Amend § 26.302 as follows:

a. In paragraph (a), remove the reference to “§ 250.204” and add, in its place, a reference to “§ 26.204”;

b. In paragraphs (a) and (b), remove the reference to “§ 250.205” and add, in its place, a reference to “§ 26.205”; and

c. In paragraph (b), remove the reference to “§ 250.301” and add, in its place, a reference to “§ 26.301.”

§ 26.303 [Amended]

Par. 76. Amend § 26.303 by removing the reference to “§ 250.302” and adding, in its place, a reference to “§ 26.302.”

§ 26.309 [Amended]

Par. 77. Amend § 26.309 as follows:

a. In paragraph (b)(4) remove the reference to “§ 250.221” and add, in its place, a reference to “§ 26.221”; and

b. In paragraph (c)(2)(viii) remove the reference to “§ 250.266” and add, in its place, a reference to “§ 26.266.”

§ 26.318 [Amended]

Par. 78. Amend § 26.318 by removing the reference to “§ 250.316” and adding, in its place, a reference to “§ 26.316.”

Signed: March 13, 2001.
Bradley A. Buckles,
Director.
Approved: June 11, 2001.
Timothy E. Skud,
Acting Deputy Assistant Secretary, (Regulatory, Tariff and Trade Enforcement).

[FR Doc. 01-18178 Filed 7-24-01; 8:45 am]

BILLING CODE 4810-31-P